ENVIRONMENTAL PROTECTION AGENCY

40 CFR Part 271

[EPA-R01-RCRA-2013-0554; FRL-9904-46-Region 1]

Vermont: Proposed Authorization of State Hazardous Waste Management Program Revisions

AGENCY: Environmental Protection Agency (EPA).

ACTION: Proposed rule.

SUMMARY: EPA proposes to grant final authorization to the State of Vermont for changes to its hazardous waste program. In the “Rules and Regulations” section of this Federal Register we are authorizing the changes to the Vermont hazardous waste program under the Resource Conservation and Recovery Act (RCRA) as a direct final rule without prior proposed rule. EPA has determined that these changes satisfy all requirements needed to qualify for final authorization. If we receive no adverse comment, we will not take further action on this proposed rule.

DATES: Written comments must be received by January 30, 2014.

ADDRESSES: Submit your comments, identified by Docket ID No. EPA-R01-RCRA-2013-0554, by mail to Sharon Leitch, RCRA Waste Management and UST Section, Office of Site Remediation and Restoration (OSRR07-1), US EPA Region 1, 5 Post Office Square, Suite 100, Boston, MA 02109-3912. Comments may also be submitted electronically or thorough hand delivery/courier by following the detailed instructions in the ADDRESSES section of the direct final rule located in the rules section of this Federal Register.

FOR FURTHER INFORMATION CONTACT: Sharon Leitch, RCRA Waste Management and UST Section, Office of Site Remediation and Restoration (OSRR07-1), US EPA Region 1, 5 Post Office Square, Suite 100, Boston, MA 02109-3912; telephone number: (617) 918-1647; fax number: (617) 918-0647; email address: leitch.sharon@epa.gov.

SUPPLEMENTARY INFORMATION: In the “Rules and Regulations” section of this Federal Register, EPA is authorizing these changes by a direct final rule. EPA did not make a proposal prior to the direct final rule because we believe this action is not controversial and do not expect adverse comments that oppose it. We have explained the reasons for this authorization in the preamble to the direct final rule. Unless we receive written adverse comments which oppose this authorization during the comment period, the direct final rule will become effective on the date it establishes, and we will not take further action on this proposal. If we get comments that oppose this action, we will withdraw the direct final rule and it will not take immediate effect. We will then respond to public comments in a later final rule based on this proposal. You may not have another opportunity for comment. If you want to comment on this action, you should do so at this time.

Dated: November 5, 2013.
H. Curtis Spalding,
Regional Administrator, EPA Region 1.

[FR Doc. 2013-31125 Filed 12-30-13; 8:45 am]

BILLING CODE 6560-50-P